FEDERAL COMMUNICATIONS COMMISSION

47 CFR Part 73

[DA 04-364; MM Docket No. 00-69, RM-9850, RM-9945, RM-9946]

Radio Broadcasting Services; Bear Lake, Bellaire, Cheboygan, Ludington, Manistique, Onaway, Rapid River, Rogers City, and Walhalla, MI

AGENCY: Federal Communications Commission.

ACTION: Final rule.

SUMMARY: This document denies a Petition for Partial Reconsideration filed by Fort Bend Broadcasting Company directed to an earlier Memorandum Opinion and Order in this proceeding. See 68 FR 28805, May 27, 2003. Specifically, this document denies a request to modify the Station WCUZ license to specify operation on Channel 291A at Bear Lake, Michigan. With this action, the proceeding is terminated.

FOR FURTHER INFORMATION CONTACT: Robert Hayne, Media Bureau (202) 418-2177.

SUPPLEMENTARY INFORMATION: This is a synopsis of the Commission's Memorandum Opinion and Order in MM Docket No. 00-69, adopted February 25, 2004, and released February 27, 2004. The full text of this decision is available for inspection and copying during normal business hours in the FCC Reference Information Center at Portals II, CY-A257, 445 12th Street, SW., Washington, DC. The complete text of this decision may also be purchased from the Commission's copy contractor, Qualex International, Portals II, 445 12th Street, SW., Room CY-B402, Washington, DC 20554, telephone (202) 863-2893, facsimile (202) 863-2898, or via e-mail qualixint@aol.com. This document is not subject to the Congressional Review Act.

Federal Communications Commission.
John A. Karousos,
Assistant Chief, Audio Division, Media Bureau.

[FR Doc. 04-5908 Filed 3-15-04; 8:45 am]

BILLING CODE 6712-01-P